DEPARTMENT OF ENERGY

Federal Energy Regulatory Commission

Combined Notice of Filings

Take notice that the Commission has received the following Natural Gas Pipeline Rate and Refund Report filings:

Filings Instituting Proceedings

Docket Number: PR18-84-000.

Applicants: Comanche Trail Pipeline, LLC.

Description: Tariff filing per 284.123(b), (e) + (g): Comanche Trail Pipeline, LLC Statement of Operating Conditions, October 1, 2018 to be effective 10/1/2018.

Filed Date: 9/28/18.

Accession Number: 201809285065.

Comments Due: 5 p.m. ET 10/19/18.

284.123(g) Protests Due: 5 p.m. ET 11/27/18.

Docket Number: PR18-85-000.

Applicants: Trans-Pecos Pipeline, LLC.

Description: Tariff filing per 284.123(b), (e) + (g): Trans-Pecos Pipeline, LLC Statement of Operating Conditions, October 1, 2018 to be effective 10/1/2018.

Filed Date: 9/28/18.

Accession Number: 201809285066.

Comments Due: 5 p.m. ET 10/19/18.

284.123(g) Protests Due: 5 p.m. ET 11/27/18.

Docket Number: PR18-86-000.

Applicants: Energy Transfer Fuel, LP.

Description: Tariff filing per 284.123(b), (e) + (g): Energy Transfer Fuel, LP Statement of Operating Conditions, October 1, 2018 to be effective 10/1/2018.

Filed Date: 9/28/18.

Accession Number: 201809285072.

Comments Due: 5 p.m. ET 10/19/18.

284.123(g) Protests Due: 5 p.m. ET 11/27/18.

Docket Number: PR18-87-000.

Applicants: ONEOK Field Services Company, L.L.C.

Description: Tariff filing per 284.123(b)(2) + (g): OFS 311 Cost of Service Rate Filing to be effective 9/28/2018.

Filed Date: 9/28/18.

Accession Number: 201809285081.

Comments Due: 5 p.m. ET 10/19/18.

284.123(g) Protests Due: 5 p.m. ET 11/27/18.

Docket Number: PR18-88-000.

Applicants: Houston Pipe Line Company LP.

Description: Tariff filing per 284.123(b), (e) + (g): Houston Pipe Line Company, LP Statement of Operating Conditions, October 1, 2018 to be effective 10/1/2018.

Filed Date: 9/28/18.

Accession Number: 201809285082.

Comments Due: 5 p.m. ET 10/19/18.

284.123(g) Protests Due: 5 p.m. ET 11/27/18.

Docket Number: PR18-89-000.

Applicants: Red Bluff Express Pipeline, LLC.

Description: Tariff filing per 284.123(b), (e) + (g): Red Bluff Express Pipeline, LLC Statement of Operating Conditions, 10/1/2018 to be effective 10/1/2018.

Filed Date: 9/28/18.

Accession Number: 201809285085.

Comments Due: 5 p.m. ET 10/19/18.

284.123(g) Protests Due: 5 p.m. ET 11/27/18.

Docket Number: PR18-90-000.

Applicants: Regency Intrastate Gas LP.

Description: Tariff filing per 284.123(b), (e) + (g): Regency Intrastate Gas LP Statement of Operating Conditions, October 1, 2018 to be effective 10/1/2018.

Filed Date: 9/28/18.

Accession Number: 201809285088.

Comments Due: 5 p.m. ET 10/19/18.

284.123(g) Protests Due: 5 p.m. ET 11/27/18.

Docket Numbers: RP18-1257-001.

Applicants: National Fuel Gas Supply Corporation.

Description: Compliance filing GT&C Section 42 Tracker Filing—Amendment to be effective 11/1/2018.

Filed Date: 10/4/18.

Accession Number: 20181004-5184.

Comments Due: 5 p.m. ET 10/16/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 10, 2018.
Nathaniel J. Davis, Sr.,
Deputy Secretary.

[FR Doc. 2018-22712 Filed 10-17-18; 8:45 am]

BILLING CODE 6717-01-P